DEPARTMENT OF TRANSPORTATION

Federal Motor Carrier Safety Administration (FMCSA)

49 CFR Part 395

[Docket No. FMCSA-2012-0183]

Hours of Service of Drivers of Commercial Motor Vehicles; Regulatory Guidance for Oil Field Exception

AGENCY: Federal Motor Carrier Safety Administration (FMCSA), DOT.

ACTION: Notice of public listening session.

SUMMARY: FMCSA announces that it will hold its third and final public listening session to receive comments on the Agency's June 5, 2012, notice concerning regulatory guidance on the applicability of the oilfield operations exceptions in the hours-of-service regulations. In an August 6, 2012, Federal Register notice, the Agency extended the deadline for public comments from August 6 to October 5, 2012. As with the previous sessions, the Dallas listening session will be open to the public and webcast in its entirety.

DATES: This listening session will be held on September, 27, 2012, in Dallas, TX, at the Hyatt Regency DFW, 2334 North International Parkway, P.O. Box 619014, DFW Airport, Texas 75261, Telephone: (972) 453-1234, Fax: (972) 615-6826. The listening session will begin at 1:00 p.m., local time, and end at 5:30 p.m. local time, or earlier if all participants wishing to comment have expressed their views. Written comments to the docket must be received on or before October 5, 2012.

ADDRESSES: The September 27, 2012, listening session will be held at the Hyatt Regency DFW, 2334 North International Parkway, P.O. Box 619014, DFW Airport, Texas 75261, Telephone: 972-453-1234, Fax: 972-615-6826.

Internet Address for Alternative Media Broadcasts During and Immediately After the Listening Session. FMCSA will post specific information on how to participate via the Internet and telephone on the FMCSA Web site at www.fmcsa.dot.gov.

You may submit comments identified by Federal Docket Management System Number FMCSA-2012-0183 by any of the following methods:

• Web site: www.regulations.gov. Follow the instructions for submitting comments on the Federal electronic docket site.

• Fax: 1-202-493-2251.

• Mail: Docket Management Facility; U.S. Department of Transportation, Room W-12-140, 1200 New Jersey Avenue SE., Washington, DC 20590-0001.

• Hand Delivery: Ground Floor, Room W12-140, DOT Building, 1200 New Jersey Avenue SE., Washington, DC, between 9 a.m. and 5 p.m. e.t., Monday through Friday, except Federal Holidays.

All submissions must include the Agency name and docket number. For detailed instruction on submitting comments and additional information, see the “Public Participation” heading below. Note that all comments received will be posted without change to www.regulations.gov, including any personal information provided. Please see the “Privacy Act” heading below.

Docket: For access to the docket to read background documents or comments received, go to www.regulations.gov at any time or to Room W12-140, DOT Building, 1200 New Jersey Avenue SE., Washington, DC, between 9 a.m. and 5 p.m., e.t., Monday through Friday, except Federal holidays.

Privacy Act: Anyone is able to search the electronic form of all comments received into any of our dockets by the name of the individual submitting the comment (or signing the comment, if submitted on behalf of an association, business, labor union, etc.). You may review the DOT's complete Privacy Act Statement in the Federal Register published on December 29, 2010 (75 FR 82133), or you may visit www.regulations.gov.

Public Participation: The www.regulations.gov Web site is generally available 24 hours each day, 365 days each year. You can obtain electronic submission and retrieval help and guidelines under the “help” section of that Web site, and at DOT's http://docketsinfo.dot.gov Web site. If you want us to notify you that we received your comments, please include a self-addressed, stamped envelope or postcard or print the acknowledgement page that appears after submitting comments online.

FOR FURTHER INFORMATION CONTACT: For the regulatory guidance issued on June 5, 2012, concerning oilfield hours-of-service exceptions: Mr. Thomas Yager, Chief, Driver and Carrier Operations Division, Federal Motor Carrier Safety Administration, 1200 New Jersey Avenue SE., Washington, DC 20590, phone (202) 366-4325, email MCPSD@dot.gov. For the listening sessions: Ms. Shannon Watson, Senior Advisor to the Associate Administrator for Policy, Federal Motor Carrier Safety Administration, 1200 New Jersey Avenue SE., Washington, DC 20590, phone (202) 385-2395, email shannon.watson@dot.gov.

If you need sign language assistance to participate in a listening session, please contact Ms. Watson no later than 10 days prior to the listening session.

SUPPLEMENTARY INFORMATION:

Background

On June 5, 2012, FMCSA published a notice in the Federal Register concerning regulatory guidance about the “oilfield operations” exceptions in 49 CFR 395.1(d)(77 FR 33098). The regulatory guidance, effective June 5, 2012, was issued to ensure consistent understanding and application of the regulatory exceptions. Several groups or organizations have requested that the Agency extend the comment period and consider holding a listening session(s). On August 6, 2012, the FMCSA announced (1) an extension of the comment period for the submission of written comments in response to the June 5, 2012, notice, and (2) listening sessions on the regulatory guidance. The previous two listening sessions were held on August 17, 2012, in Denver, CO, and on August 21, 2012, in Pittsburgh, PA. This represents the third and final listening session on this issue.

Listening Session

The listening session is open to the public. Speakers are not required to preregister but should limit their remarks to 5 minutes. The public may submit material to the FMCSA staff at the session for inclusion in the docket, FMCSA-2012-0183.

Alternative Media Broadcasts During and Immediately After the Listening Session

FMCSA will provide webcast information for the listening session. Prior to the session, the Agency will post the Web address for the live webcast and instructions on how to participate at FMCSA's Web site, www.fmcsa.dot.gov. After the listening session, FMCSA will place a full transcript of the listening session in the docket referenced at the beginning of this notice.

Issued on: September 11, 2012.
Larry W. Minor,
Associate Administrator for Policy.

[FR Doc. 2012-22880 Filed 9-14-12; 8:45 am]

BILLING CODE 4910-EX-P